DEPARTMENT OF HOMELAND SECURITY

Coast Guard

33 CFR Part 117

[Docket No. USCG-2016-0124]

Drawbridge Operation Regulation; Snohomish River and Steamboat Slough, Everett and Marysville, WA

AGENCY: Coast Guard, DHS.

ACTION: Notice of deviation from drawbridge regulation.

SUMMARY: The Coast Guard has issued a temporary deviation from the operating schedule that governs the SR 529 highway bridges across the Snohomish River, mile 3.6 near Everett, WA, and the SR 529 highway bridges across Steamboat Slough, mile 1.1 and 1.2, near Marysville, WA. The deviation is necessary to accommodate the Everett Marathon. The deviation allows the bridges to remain in the closed-to-navigation position to allow for the safe movement of event participants.

DATES: This deviation is effective from 7:30 a.m. to 11:00 a.m. on April 10, 2016.

ADDRESSES: The docket for this deviation, [USCG-2016-0124] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington State Department of Transportation (WSDOT) requested permission for the SR 529 highway bridges across the Snohomish River and Steamboat Slough to remain in the closed-to-navigation position to facilitate the safe, uninterrupted roadway passage of participants in the Everett Marathon. The SR 529 highway bridge over the Snohomish River at mile 3.6 provides 37 feet of vertical clearance above mean high water elevation while in the closed position. This bridge operate in accordance with 33 CFR 117.1059(c). The SR 529 highway bridge over Steamboat Slough at mile 1.1 and 1.2 provides 10 feet of vertical clearance above mean high water elevation while in the closed position. This bridge operate in accordance with 33 CFR 117.1059(g). This deviation allows the SR 529 bridges crossing the Snohomish River and Steamboat Slough to remain in the closed-to-navigation position from 7:30 a.m. to 11:00 a.m. on April 10, 2016. The bridges shall operate in accordance to 33 CFR 117.1059 at all other times.

Vessels able to pass through the bridges in the closed-to-navigation position may do so at any time. The bridges will be able to open for emergencies and there is no immediate alternate route for vessels to pass. Waterway usage on this part of the Snohomish River and Steamboat Slough includes vessels ranging from commercial tug and barge to small pleasure craft. The Coast Guard will also inform the users of the waterways through our Local and Broadcast Notices to Mariners of the change in operating schedule for the bridge so that vessel operators can arrange their transits to minimize any impact caused by the temporary deviation.

In accordance with 33 CFR 117.35(e), the drawbridges must return to their regular operating schedule immediately at the end of the effective period of this temporary deviation. This deviation from the operating regulations is authorized under 33 CFR 117.35.

Dated: February 17, 2016.
Steven M. Fischer,
Bridge Administrator, Thirteenth Coast Guard District.

[FR Doc. 2016-03547 Filed 2-19-16; 8:45 am]

BILLING CODE 9110-04-P